DEPARTMENT OF THE INTERIOR

Bureau of Land Management

[MT-920-03-1220-DT]

Notice of Availability of the Record of Decision for the Off-Highway Vehicle Environmental Impact Statement and Proposed Plan Amendment for Montana, North Dakota and South Dakota

AGENCY: Bureau of Land Management, Montana State Office, Interior.

ACTION: Notice of availability.

SUMMARY: In accordance with the Federal Land Policy and Management Act and the National Environmental Policy Act, the Bureau of Land Management (BLM) announces the availability of the Record of Decision for the Off-Highway Vehicle Environmental Impact Statement (EIS) and Proposed Plan Amendment for Montana, North Dakota, and South Dakota. The BLM decision restricts motorized wheeled cross-country travel yearlong on approximately 5.8 million acres of public land in the three states. The public land is designated a limited area under BLM regulation 43 CFR 8342 and as defined under 43 CFR 8340.0-5(g). The area restriction includes no motorized wheeled cross-country travel, with some exceptions, as defined in the Record of Decision. The Final FEIS and Proposed Plan Amendment were available for protest from January 12, 2001, through February 12, 2001. All protests and comments received were considered during the preparation of the ROD.

ADDRESSES: Copies of the ROD have been sent to affected Federal, State, and local government agencies and to interested parties. The document will be available electronically on the following Web site: http://www.mt.blm.gov. Copies of the ROD are available for public inspection at the following BLM office locations: Office of External Affairs, Main Interior Building, Room 6214, 18th and C Streets NW., Washington, DC 20240; External Affairs Office; Montana State Office, 5001 Southgate Drive, Billings, MT 59101.

FOR FURTHER INFORMATION CONTACT: Jim Beaver, Planning and Environmental Coordinator, (406) 896-5023, or George Peternel, OHV Coordinator, (406) 896-5037, Bureau of Land Management, 5001 Southgate Drive, Billings, MT 59101.

SUPPLEMENTARY INFORMATION: The BLM administers 8.4 millions acres of public land within nine field offices in Montana, North Dakota, and South Dakota. About 5.8 million acres were previously designated as available to motorized wheeled cross-country travel, either seasonally or yearlong, and are affected by this Record of Decision.

The preferred alternative (Alternative E) in the OHV FEIS and Proposed Plan Amendment has been selected as the approved plan. The BLM will restrict motorized wheeled cross-country travel yearlong on approximately 5.8 million acres to protect riparian areas, wetlands, crucial wildlife habitat, threatened or endangered species, soils and vegetation, aquatic resources, and to reduce user conflicts. The BLM recognizes there are some valid needs for motorized wheeled cross-country travel, which are discussed in the Record of Decision. The Record of Decision amends nine BLM land use plans: Big Dry Resource Management Plan (RMP), Billings RMP, Dillon Management Framework Plan, Headwaters RMP, Judith-Valley-Phillips RMP, North Dakota RMP, Powder River RMP, South Dakota RMP, and West HiLine RMP.

Dated: May 8, 2003.
A. Jerry Meredith,
Acting State Director.

[FR Doc. 03-16165 Filed 6-26-03; 8:45 am]

BILLING CODE 4310-$$-P